DEPARTMENT OF COMMERCE

International Trade Administration

[A-533-843]

Certain Lined Paper Products From India: Notice of Partial Rescission and Preliminary Results of Antidumping Duty Administrative Review; 2011-2012

AGENCY: Import Administration, International Trade Administration, U.S. Department of Commerce.

SUMMARY: In response to requests from Petitioners ¹ and two Indian companies, Navneet Publications (India) Ltd. (Navneet) and AR Printing & Packaging (India) Pvt. Ltd. (AR Printing), the Department of Commerce (the Department) is conducting an administrative review of the antidumping duty order on certain lined paper products (CLPP) from India.² The period of review (POR) is September 1, 2011, through August 31, 2012. The Department initiated a review of 82 Indian producers/exporters of subject merchandise,³ but Petitioners timely withdrew their review request in its entirety.⁴ We are rescinding this review in its entirety with the exception of the two self-requesting companies, Navneet and AR Printing. We preliminarily find that Navneet (the sole mandatory respondent) sold subject merchandise at less than normal value during the POR. We have preliminarily assigned AR Printing (the sole non-selected company) the non-selected rate based on the margin calculated for Navneet in this review.

¹ The Petitioners are the Association of American School Paper Suppliers (AASPS) and its individual members.

² See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

³ See Initiation of Antidumping and Countervailing Duty Administrative Reviews and Request for Revocation in Part, 77 FR 65858 (October 31, 2012) (Initiation Notice).

⁴ See Petitioners' withdrawal letter dated January 28, 2013. Petitioners' request for review covered 82 Indian producers/exporters of subject merchandise, including Navneet and AR Printing. See Petitioners' review request letter dated September 28, 2012.

DATES: Effective October 23, 2013.

FOR FURTHER INFORMATION CONTACT: Cindy Robinson or George McMahon, AD/CVD Operations, Office 8, Import Administration, International Trade Administration, U.S. Department of Commerce, 14th Street and Constitution Avenue NW., Washington DC 20230; telephone (202) 482-3797 or (202) 482-1167, respectively.

Scope of the Order

The merchandise covered by the CLPP Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁵

⁵ For a complete description of the Scope of the Order, see the memorandum from Christian Marsh, Deputy Assistant Secretary for Antidumping and Countervailing Duty Operations, to Paul Piquado, Assistant Secretary for Import Administration, “Decision Memorandum for Partial Rescission and Preliminary Results of Antidumping Duty Administrative Review: Certain Lined Paper Products from India” (Preliminary Decision Memorandum), dated concurrently with these results and hereby adopted by this notice.

Partial Rescission of the 2011-2012 Administrative Review

On January 28, 2013, Petitioners timely withdrew their request for the 2011-2012 administrative review in its entirety, which affects 80 Indian producers/exporters of the subject merchandise covered in the Initiation Notice.⁶ In accordance with 19 CFR 351.213(d)(1),⁷ and consistent with our practice,⁸ we are rescinding this review in its entirety with the exception of Navneet and AR Printing.

⁶ See footnote 4 on page 1.

⁷ In accordance with 19 CFR 351.213(d)(1), the Department will rescind an administrative review “if a party that requested the review withdraws the request within 90 days of the date of publication of notice of initiation of the requested review.” The instant review was initiated on October 31, 2012. Therefore, the deadline to withdraw review requests was January 29, 2013. Thus, Petitioners' withdrawal request is timely.

⁸ See, e.g., Brass Sheet and Strip from Germany: Notice of Rescission of Antidumping Duty Administrative Review, 73 FR 49170 (August 20, 2008); see also, Certain Lined Paper Products from India: Notice of Partial Rescission of Antidumping Duty Administrative Review and Extension of Time Limit for the Preliminary Results of Antidumping Duty Administrative Review, 74 FR 21781 (May 11, 2009).

Methodology

The Department has conducted this review in accordance with section 751(a)(2) of the Tariff Act of 1930, as amended (the Act). Export prices (EP) have been calculated in accordance with section 772 of the Act. Normal value (NV) is calculated in accordance with section 773 of the Act. For a full description of the methodology underlying our conclusions, see Preliminary Decision Memorandum.⁹

⁹ See Preliminary Decision Memorandum.

The Preliminary Decision Memorandum is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Preliminary Decision Memorandum can be accessed directly on the Internet at http://www.trade.gov/ia/. The signed Preliminary Decision Memorandum and the electronic versions of the Preliminary Decision Memorandum are identical in content.

Preliminary Results of the Review

As a result of this review, we preliminarily determine that the following weighted-average dumping margins exist for the period September 1, 2011, through August 31, 2012:

Manufacturer/exporter ¹⁰ | Weighted- average dumping margin (percent)
Navneet Publications (India) Ltd | 6.62
AR Printing & Packaging (India) Pvt. Ltd | 6.62

Disclosure and Public Comment

The Department intends to disclose to interested parties to this proceeding the calculations performed in connection with these preliminary results within five days after the date of publication of this notice.¹¹ Pursuant to 19 CFR 351.309(c), interested parties may submit cases briefs not later than the later of 30 days after the date of publication of this notice. Rebuttal briefs, limited to issues raised in the case briefs, may be filed not later than five days after the date for filing case briefs.¹² Parties who submit case briefs or rebuttal briefs in this proceeding are requested to submit with the argument: (1) A statement of the issue, (2) a brief summary of the argument, and (3) a table of authorities.¹³ All case and rebuttal briefs must be filed electronically using IA ACCESS, and must also be served on interested parties.¹⁴ An electronically filed document must be received successfully in its entirety by the Department's electronic records system, IA ACCESS. Executive summaries should be limited to five pages total, including footnotes.

¹⁰ The margin for AR Printing & Packaging (India) Pvt. Ltd. (the sole non-selected company in this review), was based on the calculated weighted-average margin of Navneet (the sole mandatory respondent in this review).

¹¹ See 19 CFR 351.224(b).

¹² See 19 CFR 351.309(d).

¹³ See 19 CFR 351.309(c)(2) and (d)(2).

¹⁴ See 19 CFR 351.303(f).

Interested parties who wish to request a hearing, or to participate if one is requested, must submit a written request to the Assistant Secretary for Import Administration, U.S. Department of Commerce, using Import Administration's IA ACCESS system.¹⁵ An electronically filed document must be received successfully in its entirety by the Department's IA ACCESS by 5:00 p.m. Eastern Time within 30 days after the date of publication of this notice.¹⁶ Requests should contain the party's name, address, and telephone number, the number of participants, and a list of the issues to be discussed. Oral presentations will be limited to issues raised in the briefs. If a request for a hearing is made, we will inform parties of the scheduled date for the hearing which will be held at the U.S. Department of Commerce, 14th Street and Constitution Avenue NW., Washington, DC 20230, at a time and location to be determined.¹⁷ Parties should confirm by telephone the date, time, and location of the hearing.

¹⁵ See 19 CFR 351.310(c).

¹⁶ Id.

¹⁷ See 19 CFR 351.310.

Unless the deadline is extended pursuant to section 751(a)(2)(B)(iv) of the Act, the Department will issue the final results of this administrative review, including the results of our analysis of the issues raised by the parties in their comments, within 120 days of publication of these preliminary results, pursuant to section 751(a)(3)(A) of the Act and 19 CFR 351.213(h).

Assessment Rate

Upon issuance of the final results, the Department shall determine, and U.S. Customs and Border Protection (CBP) shall assess, antidumping duties on all appropriate entries covered by this review. For any individually examined respondents whose weighted-average dumping margin is above de minimis, we will calculate importer-specific ad valorem duty assessment rates based on the ratio of the total amount of dumping calculated for the importer's examined sales to the total entered value of those same sales in accordance with 19 CFR 351.212(b)(1).¹⁸ We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

¹⁸ In these preliminary results, the Department applied the assessment rate calculation method adopted in Antidumping Proceedings: Calculation of the Weighted-Average Dumping Margin and Assessment Rate in Certain Antidumping Proceedings: Final Modification, 77 FR 8101 (February 14, 2012).

The Department clarified its “automatic assessment” regulation on May 6, 2003. This clarification will apply to entries of subject merchandise during the POR produced by each respondent for which they did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for Navneet and AR Printing will be the rate established in the final results of this administrative review; (2) for merchandise exported by manufacturers or exporters not covered in this administrative review but covered in a prior segment of the proceeding, the cash deposit rate will continue to be the company-specific rate published for the most recent period; (3) if the exporter is not a firm covered in this review, a prior review, or the original investigation, but the manufacturer is, the cash deposit rate will be the rate established for the most recent period for the manufacturer of the merchandise; and (4) the cash deposit rate for all other manufacturers or exporters will continue to be 3.91 percent, the all-others rate established in the investigation.¹⁹ These cash deposit requirements, when imposed, shall remain in effect until further notice.

¹⁹ See the CLPP Order.

Notification to Importers

This notice also serves as a preliminary reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent increase in antidumping duties by the amount of antidumping and/or countervailing duties reimbursed.

These preliminary results of review are issued and published in accordance with sections 751(a)(1) and 777(i)(1) of the Act and 19 CFR 351.213(h) and 19 CFR 351.214(b)(4).

Dated: September 20, 2013.
Paul Piquado,
Assistant Secretary for Import Administration.

Appendix

List of Topics Discussed in the Preliminary Decision Memorandum

1. Background

2. Period of Review

3. Scope of the Order

4. Partial Rescission of the 2011-2012 Administrative Review

5. Discussion of Methodology

6. Rate for Non-selected Company

[FR Doc. 2013-24834 Filed 10-22-13; 8:45 am]

BILLING CODE 3510-DS-P